DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under chapter 2 of the Act (“TAA”) for workers by (TA-W) started during the period of November 1, 2021 through November 30, 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under title II, chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W-No. | Subject firm | Location | Inv start date
98,101 | Laminate Technologies of Oregon | White City, OR | 11/2/2021
98,102 | 1Concier | McCormick, SC | 11/3/2021
98,103 | Aquiline Drones Corporation | Hartford, CT | 11/3/2021
98,104 | Baxter Healthcare | Brooklyn Park, MN | 11/3/2021
98,105 | Kemper Valve and Fittings Corp | Pleasanton, TX | 11/3/2021
98,106 | Safran Cabin Inc. | Ontario, CA | 11/4/2021
98,107 | Wells Fargo Bank N.A | Orlando, FL | 11/4/2021
98,108 | West Penn Wire | Washington, PA | 11/4/2021
98,109 | FDP Virginia, Inc | Tappahannock, VA | 11/5/2021
98,110 | TE Connectivity | Norwood, MA | 11/5/2021
98,111 | Medtronic | Minneapolis, MN | 11/8/2021
98,112 | Nonmetallic Machinery Assembly, Inc. | Erie, PA | 11/8/2021
98,113 | CitiBank | Sioux Falls, SD | 11/9/2021
98,114 | Kellogg Company | Battle Creek, MI | 11/9/2021
98,115 | Rogue Truck Body | Kerby, OR | 11/9/2021
98,116 | Ascenda USA Inc., d/b/a 24-7 Intouch | Aurora, CO | 11/10/2021
98,117 | Lear Corporation | Roscommon, MI | 11/10/2021
98,118 | Setterstix | Cattaraugus, NY | 11/10/2021
98,119 | Cardinal Health | Whitestone, NY | 11/12/2021
98,120 | Conesys Inc | Torrance, CA | 11/19/2021
98,121 | Borg Warner Transmission Systems | Frankfort, IL | 11/22/2021
98,122 | Redsail West Technologies (lntegra) | Anacortes, WA | 11/23/2021
98,123 | K2 Advisors, LLC | Stamford, CT | 11/24/2021
98,124 | Linwood Mining and Minerals Corp | Davensport, IA | 11/24/2021
98,125 | Multi-Color Global Label Solutions | Fulton, NY | 11/24/2021
98,126 | N26 Inc. | New York, NY | 11/24/2021
98,127 | Pilgrim Nuclear Power Station | Plymouth, MA | 11/30/2021
98,128 | Rebecca Taylor, Inc | New York, NY | 11/30/2021

Reconsideration Investigations

The following are reconsideration investigations following the receipt of a properly filed application for reconsideration.

“
TA-W-No. | Subject firm | Location | Inv start date
97,007 | T-Mobile USA, Inc | Honolulu, HI | 11/17/2021

A record of these investigations and petitions filed are available, subject to redaction, on the Department's website https://www.dol.gov/agencies/eta/tradeact under the searchable listing or by calling the Office of Trade Adjustment Assistance toll free at 888-365-6822.

Signed at Washington, DC this 10th day of December 2021.
Hope D. Kinglock
Certifying Officer, Office of Trade Adjustment Assistance.

[FR Doc. 2021-27983 Filed 12-23-21; 8:45 am]

BILLING CODE 4510-FN-P